DEPARTMENT OF TRANSPORTATION

Federal Aviation Administration

14 CFR Part 39

[Docket No. 98-NM-164-AD; Amendment 39-11789; AD 2000-12-11]

RIN 2120-AA64

Airworthiness Directives; Airbus Model A300-600 Series Airplanes

AGENCY: Federal Aviation Administration, DOT.

ACTION: Final rule.

SUMMARY: This amendment supersedes an existing airworthiness directive (AD), applicable to certain Airbus Model A300-600 series airplanes, that currently requires repetitive ultrasonic inspections to detect cracks in the bolt holes inboard and outboard of rib 9 on the bottom booms of the front and rear wing spars, and repair, if necessary. This amendment requires revising the compliance thresholds for the inspection and requires that the inspections be repeated at reduced intervals. This amendment is prompted by issuance of mandatory continuing airworthiness information by a foreign civil airworthiness authority. The actions specified by this AD are intended to prevent fatigue cracks in the bolt holes of the wing spars, which could result in reduced structural integrity of a wing spar.

DATES: Effective July 24, 2000.

The incorporation by reference of Airbus Service Bulletin A300-57-6037, Revision 1, dated August 31, 1995, as listed in the regulations, is approved by the Director of the Federal Register as of July 24, 2000.

The incorporation by reference of Airbus Service Bulletin A300-57-6037, dated August 1, 1994, as listed in the regulations, was approved previously by the Director of the Federal Register as of May 10, 1995 (60 FR 17990, April 10, 1995).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 95-07-05, amendment 39-9187 (60 FR 17990, April 10, 1995), which is applicable to certain Airbus Model A300-600 series airplanes, was published in the Federal Register on April 20, 2000 (65 FR 21157). The action proposed to continue to require repetitive ultrasonic inspections to detect cracks in the bolt holes inboard and outboard of rib 9 on the bottom booms of the front and rear wing spars, and repair, if necessary. The action also proposed to revise the compliance thresholds for the inspection and require that the inspections be repeated at reduced intervals.

Comments

Interested persons have been afforded an opportunity to participate in the making of this amendment. No comments were submitted in response to the proposal or the FAA's determination of the cost to the public.

Conclusion

The FAA has determined that air safety and the public interest require the adoption of the rule as proposed.

Cost Impact

There are approximately 75 airplanes of U.S. registry that will be affected by this AD.

The inspection that is currently required by AD 95-07-05, and retained in this AD, takes approximately 1 work hour per airplane to accomplish (excluding 10 work hours for access and close-up), at an average labor rate of $60 per work hour. Based on this figure, the cost impact of the currently required inspection on U.S. operators is estimated to be $4,500, or $60 per airplane, per inspection cycle.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9187 (60 FR 17990, April 10, 1995), and by adding a new airworthiness directive (AD), amendment 39-11789, to read as follows:

2000-12-11 Airbus Industrie: Amendment 39-11789. Docket 98-NM-164-AD. Supersedes AD 95-07-05, Amendment 39-9187.

Applicability: Model A300-600 series airplanes, certificated in any category, on which Airbus Modification 10161 has not been installed in production.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent fatigue cracks in the bolt holes of the wing spars, which could result in reduced structural integrity of a wing spar, accomplish the following:

Ultrasonic Inspections

(a) Perform an ultrasonic inspection to detect fatigue cracking of the bolt holes inboard and outboard of rib 9 on the bottom booms of the front and rear wing spars, in accordance with Airbus Service Bulletin A300-57-6037, dated August 1, 1994, or Revision 1, dated August 31, 1995, at the applicable time specified in paragraph (a)(1) or (a)(2) of this AD. Repeat the inspection thereafter at intervals not to exceed 4,800 flight cycles or 11,000 flight hours, whichever occurs first.

(1) For airplanes on which Airbus Modification 8842 (reference Airbus Service Bulletin A300-57-6039) has not been installed: Inspect at the earlier of the times specified by paragraphs (a)(1)(i) and (a)(1)(ii) of this AD.

(i) Prior to the accumulation of 17,000 total flight cycles, or within 2,000 flight cycles after May 10, 1995 (the effective date of AD 95-07-05, amendment 39-9187), whichever occurs later.

(ii) Prior to the accumulation of 39,000 total flight hours.

(2) For airplanes on which Airbus Modification 8842 has been installed: Inspect at the earlier of the times specified by paragraphs (a)(2)(i) and (a)(2)(ii) of this AD.

(i) Within 17,000 flight cycles after accomplishment of Airbus Modification 8842, or within 2,000 flight cycles after May 10, 1995, whichever occurs later.

(ii) Within 39,000 flight hours after accomplishment of Airbus Modification 8842.

Corrective Action

(b) If any crack is found, prior to further flight, repair in accordance with Airbus Service Bulletin A300-57-6037, dated August 1, 1994, or Revision 1, dated August 31, 1995. Thereafter, perform the repetitive inspections required by paragraph (a) of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Airbus Service Bulletin A300-57-6037, dated August 1, 1994; or Airbus Service Bulletin A300-57-6037, Revision 1, dated August 31, 1995, as applicable. Airbus Service Bulletin A300-57-6037, Revision 1, dated August 31, 1995, contains the following list of effective pages:

Page No. | Revision level shown on page | Date shown on page
1, 2, 4-6 | 1 | August 31, 1995.
3, 7-17 | Original | August 1, 1994.

(1) The incorporation by reference of Airbus Service Bulletin A300-57-6037, Revision 1, dated August 31, 1995, is approved by the Director of the Federal Register in accordance with 5 U.S.C. 552(a) and 1 CFR part 51.

(2) The incorporation by reference of Airbus Service Bulletin A300-57-6037, dated August 1, 1994, was approved previously by the Director of the Federal Register as of May 10, 1995 (60 FR 17990, April 10, 1995).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 94-208-169(B)R2, dated October 8, 1997.

(f) This amendment becomes effective on July 24, 2000.

Issued in Renton, Washington, on June 9, 2000.
Donald L. Riggin,
Acting Manager, Transport Airplane Directorate, Aircraft Certification Service.

[FR Doc. 00-15186 Filed 6-16-00; 8:45 am]

BILLING CODE 4910-13-U